DEPARTMENT OF HEALTH AND HUMAN SERVICES

National Institutes of Health

National Institute of Dental & Craniofacial Research; Notice of Closed Meetings

Pursuant to section 10(d) of the Federal Advisory Committee Act, as amended (5 U.S.C. Appendix 2), notice is hereby given of the following meetings.

The meetings will be closed to the public in accordance with the provisions set forth in section 552b(c)(4) and 552b(c)(6), Title 5 U.S.C., as amended. The grant applications and/or contract proposals and the discussions could disclose confidential trade secrets or commercial property such as patentable material, and personal information concerning individuals associated with the grant applications and/or contract proposals, the disclosure of which would constitute a clearly unwarranted invasion of personal privacy.

Name of Committee: National Institute of Dental and Craniofacial Research Special Emphasis Panel, 07-56, Review R21s.

Date: May 7, 2007.

Time: 3 p.m. to 4 p.m.

Agenda: To review and evaluate grant applications and/or proposals.

Place: National Institutes of Health, Natcher Building, 45 Center Drive, Bethesda, MD 20892, (Telephone Conference Call).

Contact Person: Mary Kelly, Scientific Review Specialist, National Institute of Dental & Craniofacial Res., 45 Center Drive, Natcher Bldg., RM 4AN38F, Bethesda, MD 20892-6402, (301) 594-4809, mary_kelly@nih.gov.

Name of Committee: National Institute of Dental and Craniofacial Research Special Emphasis Panel, 07-49, Review R01.

Date: May 8, 2007.

Time: 9 a.m. to 12 p.m.

Agenda: To review and evaluate grant applications.

Place: Bethesda North Marriott Hotel & Conference Center, 5701 Marinelli Road, Rockville, MD 20852.

Contact Person: Lynn M King, PhD, Scientific Review Administrator, Scientific Review Branch, 45 Center Dr., Rm 4AN-32F, National Inst. of Dental & Craniofacial Research, National Institutes of Health, Bethesda, MD 20892-6402, 301-594-5006, lynn.king@nih.gov.

Name of Committee: National Institute of Dental and Craniofacial Research Special Emphasis Panel, 07-55, Review R21s.

Date: May 8, 2007.

Time: 3 p.m. to 4 p.m.

Agenda: To review and evaluate grant applications.

Place: National Institutes of Health, Natcher Building, 45 Center Drive, Bethesda, MD 20892, (Telephone Conference Call).

Contact Person: Mary Kelly, Scientific Review Specialist, National Institute of Dental & Craniofacial Res., 45 Center Drive, Natcher Bldg., RM 4AN38F, Bethesda, MD 20892-6402, (301) 594-4809, mary_kelly@nih.gov.

Name of Committee: National Institute of Dental and Craniofacial Research Special Emphasis Panel, 07-54, Review R21.

Date: May 9, 2007.

Time: 3 p.m. to 4 p.m.

Agenda: To review and evaluate grant applications.

Place: National Institutes of Health, Natcher Building, 45 Center Drive, Bethesda, MD 20892, (Telephone Conference Call).

Contact Person: Mary Kelly, Scientific Review Specialist, National Institute of Dental & Craniofacial Res., 45 Center Drive, Natcher Bldg., Rm 4AN38F, Bethesda, MD 20892-6402, (301) 594-4809, mary_kelly@nih.gov.

Name of Committee: National Institute for Dental and Craniofacial Research Special Emphasis Panel, 07-44, Review RFA DE-07-008.

Date: May 22, 2007.

Time: 8 a.m. to 6 p.m.

Agenda: To review and evaluate grant applications.

Place: Double Tree Bethesda, 8120 Wisconsin Ave, Bethesda, MD 20814.

Contact Person: Peter Zelazowski, PhD, Scientific Review Administrator, Scientific Review Branch, Division of Extramural Activities, National Inst. of Dental & Craniofacial Research, National Institutes of Health, Bethesda, MD 20892-6402, (301) 593-4861, peter.zelazowski@nih.gov.

Name of Committee: National Institute of Dental and Craniofacial Research Special Emphasis Panel, 07-53, Review PAR06-211 R03s.

Date: May 24, 2007.

Time: 1 p.m. to 4 p.m.

Agenda: To review and evaluate grant applications.

Place: National Institutes of Health, Natcher Building, 45 Center Drive, Bethesda, MD 20892, (Telephone Conference Call).

Contact Person: Yujing Liu, PhD, Scientific Review Administrator, National Institute of Dental & Craniofacial Res., 45 Center Drive, Natcher Building, Rm. 4AN38E, Bethesda, MD 20892, (301) 594-3169, yujing_liu@nih.gov.

Name of Committee: National Institute of Dental and Craniofacial Research Special Emphasis Panel, 07-57, Review R21.

Date: June 19, 2007.

Time: 11 a.m. to 12 p.m.

Agenda: To review and evaluate grant applications.

Place: National Institutes of Health, Natcher Building, 45 Center Drive, Bethesda, MD 20892, (Telephone Conference Call).

Contact Person: Mary Kelly, Scientific Review Specialist, National Institute of Dental & Craniofacial Res., 45 Center Drive, Natcher Bldg., Rm 4AN38F, Bethesda, MD 20892-6402, (301) 594-4809, mary_kelly@nih.gov.

(Catalogue of Federal Domestic Assistance Program Nos. 93.121, Oral Diseases and Disorders Research, National Institutes of Health, HHS)

Dated: April 6, 2007.
Anna Snouffer,
Acting Director, Office of Federal Advisory Committee Policy.

[FR Doc. 07-1855 Filed 4-13-07; 8:45 am]

BILLING CODE 4140-01-M